DEPARTMENT OF JUSTICE

Notice of Lodging of Consent Decree Under the Comprehensive Environmental Response, Compensation, and Liability Act

Consistent with Section 122(d) of the Comprehensive Environmental Response, Compensation, and Liability Act of 1980, as amended (“CERCLA”), 42 U.S.C. 9622(d), and 28 CFR 50.7, notice is hereby given that on September 17, 2009, the United States lodged a Consent Decree with the South Tahoe Public Utility District (“the District”) in United States of America v. El Dorado County, California, et al., Civil No. S-01-1520 MCE GGH (E.D. Cal.), with respect to the Meyers Landfill Site, located in Meyers, El Dorado County, California (the “Site”).

El Dorado County, California filed a Third Party Complaint for contribution against a number of third parties, including the District. The District asserted CERCLA claims against the United States Department of Agriculture, Forest Service (“Forest Service”) as well as non-CERCLA claims related to a Forest Service Special Use Permit for a portion of their sewer line. The proposed Consent Decree resolves the District's CERCLA claims against the Forest Service and the Forest Service's potential CERCLA claims against the District.

In addition, attached to the proposed Consent Decree is a separate, related, Settlement Agreement resolving the non-CERCLA claims between the Forest Service and the District. The Settlement Agreement's effectiveness is conditioned on the Court's entry of the proposed Consent Decree. Under the proposed Consent Decree the District is not paying any money towards the Forest Service's past costs, but it has agreed to provide access to its sewer line and to cooperate and to provide its expertise in implementing the OU-1 Remedy. In addition, the District will dismiss it's CERCLA claims against the Forest Service. The District will receive from the United States a covenant not to sue or to take administrative action pursuant to Sections 106 or 107 of CERCLA, 42 U.S.C. 9606 and 9607, as amended, for the United States' past and future response costs at the Site.

The Department of Justice will receive for a period of thirty (30) days from the date of this publication comments relating to the Consent Decree. Comments should be addressed to the Acting Assistant Attorney General, Environment and Natural Resources Division, and either e-mailed to pubcomment-ees.enrd@usdoj.gov or mailed to P.O. Box 7611, U.S. Department of Justice, Washington, DC 20044-7611, and should refer to United States of America v. El Dorado County, California, et al., Civil No. S-01-1520 MCE GGH (E.D. Cal.) (DOJ Ref. No. 90-11-3-06554).

The Consent Decree with the District may be examined at U.S. Department of Agriculture, Office of General Counsel, 33 New Montgomery Street, 17th Floor, San Francisco, CA 94150 (contact Rose Miksovsky, (415) 744-3158). During the public comment period, the Consent Decree with the District may also be examined on the following Department of Justice Web site, http://www.usdoj.gov/enrd/Consent_Decrees.html. A copy of the Consent Decree with the District may also be obtained by mail from the Consent Decree Library, U.S. Department of Justice, P.O. Box 7611, Washington, DC 20044-7611 or by faxing or e-mailing a request to Tonia Fleetwood (tonia.fleetwood@usdoj.gov), fax no. (202) 514-0097, phone confirmation number (202) 514-1547. In requesting a copy from the Consent Decree Library, please refer to United States of America v. El Dorado County, California, et al., Civil No. S-01-1520 MCE GGH (E.D. Cal.) (DOJ Ref. No. 90-11-3-06554) (Consent Decree with District), and enclose a check in the amount of $9.00 (25 cents per page reproduction cost) payable to the U.S. Treasury or, if by e-mail or fax, forward a check in that amount to the Consent Decree Library at the stated address.

Maureen Katz,
Assistant Section Chief, Environmental Enforcement Section, Environment and Natural Resources Division.

[FR Doc. E9-22870 Filed 9-22-09; 8:45 am]

BILLING CODE 4410-15-P